DEPARTMENT OF ENERGY

Federal Energy Regulatory Commission

[Docket No. CP16-492-000]

EcoEléctrica, L.P.; Notice of Schedule for Environmental Review of the LNG Terminal Sendout Capacity Increase Project

On August 11, 2016, EcoEléctrica, L.P. (EcoEléctrica) filed an application in Docket No. CP16-492-000 requesting a limited amendment under section 3 of the Natural Gas Act to operate certain liquefied natural gas (LNG) facilities. The proposed project is known as the LNG Terminal Sendout Capacity Increase Project (Project), and would increase the vaporization send out capacity at EcoEléctrica's existing LNG terminal in Peñuelas, Puerto Rico to supply the Puerto Rico Electric Power Authority with an additional 93 million cubic feet per day.

On August 25, 2016, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA, April 12, 2017.

90-day Federal Authorization Decision Deadline, July 11, 2017.

If a schedule change becomes necessary, additional notice will be provided so that the relevant agencies are kept informed of the Project's progress.

Project Description

EcoEléctrica proposes to modify its current operations to use a spare vaporizer at its existing LNG terminal in Peñuelas, Puerto Rico. No changes would be made to the design of the existing LNG vaporization system, the existing LNG storage tank, or in-tank LNG sendout pumps as part of the Project. The Project would not include any construction activities and no ground disturbance would be required for construction or operation.

Background

On November 1, 2016, the Commission issued a Notice of Intent to Prepare an Environmental Assessment for the Proposed LNG Terminal Sendout Capacity Increase Project and Request for Comments on Environmental Issues (NOI). The NOI was sent to affected landowners; federal, state, and local government agencies; elected officials; environmental and public interest groups; other interested parties; and local libraries and newspapers. The scoping period identified in the NOI will end on December 1, 2016.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC Web site (www.ferc.gov). Using the “eLibrary” link, select “General Search” from the eLibrary menu, enter the selected date range and “Docket Number” excluding the last three digits (i.e., CP16-492), and follow the instructions. For assistance with access to eLibrary, the helpline can be reached at (866) 208-3676, TTY (202) 502-8659, or at FERCOnlineSupport@ferc.gov. The eLibrary link on the FERC Web site also provides access to the texts of formal documents issued by the Commission, such as orders, notices, and rule makings.

Dated: November 18, 2016.
Kimberly D. Bose,
Secretary.

[FR Doc. 2016-28329 Filed 11-23-16; 8:45 am]

BILLING CODE 6717-01-P